DEPARTMENT OF THE INTERIOR

Fish and Wildlife Service

[FWS-R6-R-2008-N0186; 60138-1261-0000-S3]

Wetland Management Districts, South Dakota

AGENCY: Fish and Wildlife Service, Interior.

ACTION: Notice of Intent to prepare a Comprehensive Conservation Plan and Environmental Assessment; request for comments.

SUMMARY: We, the U.S. Fish and Wildlife Service (Service), intend to gather information necessary to prepare a Comprehensive Conservation Plan (CCP) and associated environmental documents for three Wetland Management Districts (WMDs) located in the State of South Dakota. The three WMDs are Huron, Madison and Sand Lake. The Service is furnishing this notice in compliance with Service CCP Policy to advise other agencies and the public of its intentions, and to obtain suggestions and information on the scope of issues to be considered in the planning process.

DATES: To ensure consideration, we must receive your written comments by October 16, 2008.

ADDRESSES: Please send your comments or requests for more information to Bernardo Garza, Planning Team Leader, Division of Refuge Planning, P.O. Box 25486, Denver Federal Center, Denver, Colorado 80225.

FOR FURTHER INFORMATION CONTACT: Bernardo Garza, 303-236-4377, or John Esperance, Chief, Branch of Refuge Planning at 303-236-4369.

SUPPLEMENTARY INFORMATION: With this Notice, the Service initiates a CCP for three WMDs in eastern South Dakota. These three WMDs were established for the protection of critical migratory waterfowl habitat within the State of South Dakota. Through these WMDs, the Service manages a complex of wetlands in 27 counties within South Dakota. The wetlands range from seasonal shallow basins to deeper, more permanent ponds that provide resting and feeding areas for millions of birds during spring and fall migration. The National Wildlife Refuge System Administration Act of 1966, as amended by the National Wildlife Refuge System Improvement Act of 1997 (16 U.S.C. 668dd-668ee), requires the Service to develop a CCP for each unit of the National Wildlife Refuge System. The purpose in developing a CCP is to provide project leaders with a 15-year strategy for achieving refuge and wetland management district purposes and contributing toward the mission of the National Wildlife Refuge System, consistent with sound principles of fish and wildlife management, conservation, legal mandates, and Service policies. In addition to outlining broad management direction on conserving wildlife and their habitats, CCPs identify wildlife dependent recreational opportunities available to the public, including opportunities for hunting, fishing, wildlife observation, wildlife photography, and environmental education and interpretation.

The Service established each unit of the National Wildlife Refuge System, including these three WMDs, with specific purposes. The Service uses these purposes to develop and prioritize management goals and objectives within the National Wildlife Refuge System mission and to guide which public uses will occur on these WMDs. The planning process is a way for the Service and the public to evaluate management goals and objectives for the best possible conservation efforts of this important wildlife habitat, while providing for wildlife-dependent recreation. The Service will conduct a comprehensive conservation planning process that will provide opportunity for Tribal, State, and local governments; agencies; organizations; and the public to participate in issue scoping and public comment. The Service requests input on issues, concerns, ideas, and suggestions for the future management of these WMDs in South Dakota. Anyone interested in providing input is invited to respond to the following two questions.

(1) What problems or issues do you want to see addressed in the CCP?

(2) What improvements would you recommend for these three (3) WMDs?

The Service has provided the above questions for your optional use; you are not required to provide information to the Service. The planning team developed these questions to gather information about individual issues and ideas concerning these WMDs. Comments received by the planning team will be used as part of the planning process; individual comments will not be referenced in our reports or responded to directly. An opportunity will be given to the public to provide input at an open house to scope issues and concerns (schedules can be obtained from the planning team leader at the above address). Comments may also be submitted any time during the planning process by writing to the above address. All information provided voluntarily by mail, phone, or at public meetings becomes part of our official public record (i.e., names, addresses, letters of comment, input recorded during meetings). If requested under the Freedom of Information Act by a private citizen or organization, the Service may provide informational copies.

The Service will conduct the environmental review of this project in accordance with the requirements of the National Environmental Policy Act (NEPA) of 1969, as amended (42 U.S.C. 4321 et seq.); NEPA Regulations (40 CFR parts 1500-1508); other appropriate Federal laws and regulations; and Service policies and procedures for compliance with those regulations. All comments received from individuals on Service Environmental Assessments and Environmental Impact Statements become part of the official public record. Requests for such comments will be handled in accordance with the Freedom of Information Act, NEPA (40 CFR 1506.6(f)), and other Departmental and Service policies and procedures. When requested, the Service generally will provide comment letters with the names and addresses of the individuals who wrote the comments. However, the telephone number of the commenting individual will not be provided in response to such requests to the extent permissible by law.

Dated: July 18, 2008.
Sharon R. Rose,
Acting Deputy Regional Director.

[FR Doc. E8-21548 Filed 9-15-08; 8:45 am]

BILLING CODE 4310-55-P